DEPARTMENT OF HEALTH AND HUMAN SERVICES

Centers for Disease Control and Prevention

Disease, Disability, and Injury Prevention and Control Special Emphasis Panel (SEP): Translating Research To Protect Health Through Health Promotion, Prevention, and Preparedness, Panel D, Funding Opportunity Announcement (FOA) CD09-001, Initial Review

In accordance with section 10(a)(2) of the Federal Advisory Committee Act (Pub. L. 92-463), the Centers for Disease Control and Prevention (CDC) announces the aforementioned meeting:

Time and Date: 9 a.m.-5 p.m., July 21, 2009 (Closed). 9 a.m.-1 p.m., July 22, 2009 (Closed).

Place: W Hotel, Midtown, 188 14th Street, NE., Atlanta, Georgia 30361, Telephone: (404) 892-6000.

Status: The meeting will be closed to the public in accordance with provisions set forth in section 552b(c)(4) and (6), Title 5 U.S.C., and the Determination of the Director, Management Analysis and Services Office, CDC, pursuant to Public Law 92-463.

Matters To Be Discussed: The meeting will include the initial review, discussion, and evaluation of “Translating Research to Protect Health through Health Promotion, Prevention, and Preparedness, Panel D, FOA CD09-001, initial review.”

For More Information Contact: Christine J. Morrison, PhD, Scientific Review Administrator, CDC, 1600 Clifton Road, NE., Mailstop D72, Atlanta, GA 30333, Telephone (404) 639-3098.

The Director, Management Analysis and Services Office, has been delegated the authority to sign Federal Register notices pertaining to announcements of meetings and other committee management activities, for both CDC and the Agency for Toxic Substances and Disease Registry.

Dated: June 15, 2009.
Elaine L. Baker,
Director, Management Analysis and Services Office, Centers for Disease Control and Prevention.

[FR Doc. E9-14659 Filed 6-22-09; 8:45 am]

BILLING CODE 4163-18-P